DEPARTMENT OF AGRICULTURE

Forest Service

Revision to Solitude Mountain Resort Master Development Plan Update, Wasatch-Cache National Forest, Salt Lake Ranger District, Salt Lake County, UT

AGENCY: Forest Service, USDA.

ACTION: Notice of intent to prepare an Environmental Impact Statement (EIS).

SUMMARY: The Salt Lake Ranger District, of the Wasatch-Cache National Forest, will conduct a new public scoping process and prepare an EIS on Solitude Ski Resort's (Solitude) revised proposal to update their Master Development Plan.

DATES: Comments concerning the scope of the analysis should be received in writing by April 4, 2000.

ADDRESSES: Send written comments to Daniel J. Jiron, District Ranger, 6944 South 3000 East, Salt Lake City, Utah 84121.

FOR FURTHER INFORMATION CONTACT: Steve Scheid, Project Manager, (801) 733-2689.

SUPPLEMENTARY INFORMATION: Solitude is proposing to revise its Master Development Plan Update. During the spring and summer of 1995, Solitude Ski Resort submitted to the Forest Service an updated Master Development Plan (MDP) detailing proposed ski area and facility modifications. Public comment was initially solicited on August 4, 1995 through the issuance of a scoping document, followed by a public meeting on August 25, 1995. A second public scoping notice was issued for Solitude in July 1996, after the Forest Service determined that an EIS needed to be prepared. A public field review was also held in September 1997 to view and discuss proposed projects and potential alternatives for Solitude's MDP update.

The planning horizon for Solitude's original MDP update was approximately five years. Due to the substantial elapse of time (four years), there is now a need to extend the planning horizon of Solitude's MDP update. In addition, Solitude's desire to address public and Agency issues pertaining to their proposed facilities has resulted in a number of additions and modifications to the MDP update. The vast majority of projects originally proposed for Solitude's MDP update remain unchanged. Solitude's proposal, if approved, would require Forest Plan amendments to incorporate projects located outside its special use permit boundary; install the proposed Sol-Bright lift; meet the proposed expansion of Solitude's skiers at one time (SAOT) capacity; meet visual quality objectives (VQO's) for existing and proposed parking areas and the proposed Highway accelerations and deceleration lane improvements.

Solitude proposes to improve their base facilities by replacing their outdated Main and Eagle Express lodges with two new buildings, which will house ski operations, skier services (restrooms, food service, day care, ski school and ski patrol) and a connected Salt Lake County Fire Station. They also propose to construct additions to the existing Moonbeam Center and Last Chance Mining Camp day lodges to help alleviate overcrowded conditions.

Solitude's proposed base area projects include the following: a landing pad for rescue helicopters, recreational vehicle hookups, expanding Moonbeam parking lot, upgrading base transportation and visitor circulation systems, a satellite and communications base station, and upgrading the snowmaking system (stream diversion points, a pump house and dredging Lake Solitude) to provide snowmaking capacity for 250 acres.

Solitude is also proposing to upgrade its lift system by constructing three new double chairlifts, a pulse gondola for internal resort (base area) transportation and upgrading three existing lifts to high-speed detachable quads. They are also proposing numerous improvements to their trail system and a new trail near the Sunrise lift. Solitude is also proposing to provide lighted nighttime activities including sliding, snowboarding, skiing, and ice skating adjacent to the Village base area. Solitude is also proposing summertime recreation use improvements by upgrading its mountain bike trail system and constructing an alpine slide.

Additional information on the proposed actions is available through the Salt Lake Ranger District office. Before any decision is made on this proposal, Solitude must obtain the following: a water change application from the Utah Department of Natural Resources, Division of Water Rights, State Engineer; all applicable building permits from Salt Lake County; a 404 permit from the Army Corps of Engineers; and consultation with the Environmental Protection Agency.

A scoping document, dated August 4, 1995, was sent to more than 540 individuals, organizations, and local and state government agencies. A second scoping notice, dated July 16, 1996 was sent to more than 250 individuals, organizations, and local and state government agencies. Preliminary issues identified by a Forest Service interdisciplinary team include effects on riparian and wetland areas, visual quality, transportation, parking, wildlife and vegetation, soil erosion, and water quality and quantity in a culinary watershed. Two preliminary alternatives have been identified. The proposed action alternative would permit Solitude to implement all of its proposed upgrades and may require Solitude to convert to a new Ski Area Term Special Use Permit. The no action alternative would permit use as it presently exists with no new improvements.

The public is invited to submit comments or suggestions to the address above. The responsible official is Bernie Weingrardt, Forest Supervisor. A Draft EIS is expected to be filed in December of 2000 and the final EIS filed in November of 2001.

The comment period on the draft EIS will be 45 days from the date the Environmental Protection Agency's notice of availability appears in the Federal Register. It is very important that those interested in this proposed action participate during that time. To be most helpful, comments on the draft EIS should be as specific as possible and may address the adequacy of the statement or the merits of the alternatives discussed (see The Council on Environmental Quality Regulations for implementing the procedural provisions of the National Environmental Policy Act at 40 CFR 1503.3).

In addition, Federal court decisions have established that the reviewers of the draft EIS must structure their participation in the environmental review of the proposal so that it is meaningful and alerts an agency to the reviewer's position and contentions. Vermont Yankee Nuclear Power Corp. v. NRDC, 435 U.S. 519, 553 (1978). Environmental objections that could have been raised at the draft stage may be waived if not raised until after completion of the final EIS. City of Angoon v. Hodel, (9th Circuit, 1986), and Wisconsin Heritages, Inc. v. Harris, 490 F. Supp. 1334, 1338 (E.D. Wis. 1980). The reason for this is to ensure that substantive comments and objectives are made available to the Forest Service at a time when it can meaningfully consider them and respond to them in the final EIS.

Dated: February 25, 2000.
Daniel J. Jiron,
District Ranger.

[FR Doc. 00-5005 Filed 3-1-00; 8:45 am]

BILLING CODE 3410-11-M